DEPARTMENT OF ENERGY

Federal Energy Regulatory Commission

[Project No.: 2210-169]

Appalachian Power Company; Notice of Application Tendered for Filing With the Commission and Establishing Procedural Schedule for Licensing and Deadline for Submission of Final Amendments

April 9, 2008.

Take notice that the following hydroelectric application has been filed with the Commission and is available for public inspection.

a. Type of Application: New Major License.

b. Project No.: 2210-169.

c. Date Filed: March 27, 2008.

d. Applicant: Appalachian Power Company, dba American Electric Power.

e. Name of Project: Smith Mountain Hydroelectric Project.

f. Location: On the headwaters of the Roanoke River in south-central Virginia, within the counties of Bedford, Campbell, Franklin and Pittsylvania, and near the city of Roanoke, Virginia. No federal lands are occupied by the project works or otherwise located within the project boundary.

g. Filed Pursuant to: Federal Power Act 16 U.S.C. 791 (a)-825(r).

h. Applicant Contact: Teresa P. Rogers, Environmental and Regulatory Affairs Supervisor, Appalachian Power Company, Hydro Generation, P.O. Box 2021, Roanoke, VA 24022-2121; (540) 985-2441; tprogers@aep.com.

i. FERC Contact: Allan Creamer, Federal Energy Regulatory Commission, 888 First Street, NE., Washington, DC 20426; (202) 502-8365; allan.creamer@ferc.gov.

j. This application is not ready for environmental analysis at this time.

k. The Project Description: The existing Smith Mountain Project consists of two developments; one used for pumped storage operation and the other conventional operation.

The upper, pumped storage development, known as Smith Mountain, consists of: (1) A 816-foot-long, 235-foot-high concrete arch dam, with a crest elevation of 812.0 feet National Geodetic Vertical Datum (NGVD); (2) two ogee-crest overflow spillways, each 100 feet long and having a crest elevation of 595.0 feet NGVD [passing 25,000 cubic feet per second (cfs)]; (3) a reservoir with a surface area of 20,260 acres at a normal operating level of 795.0 feet NGVD; (4) a pump station/powerhouse containing five generating units, with a total capacity of 586 megawatts (MW), a total hydraulic capacity of 46,000 cfs, and an average annual generation of 476,640 MWh (three of the units, which have a pumping capacity of 15,810 cfs, are reversible for pumping water from the Leesville's reservoir to Smith Mountain's reservoir); (5) a 600,000 KVA substation and a double-circuit 138-kV tie-in line to American Electric Power's (AEP) interconnected system; and (6) appurtenant facilities.

The lower, conventional development, known as Leesville, consists of: (1) A 980-foot-long, 94 foot-high concrete gravity dam, with a crest elevation of 615.67 feet NGVD; (2) a 224-foot-long gated spillway section, with (a) A crest elevation of 578.0 feet NGVD, (b) four taintor gates, and (c) a hydraulic capacity of 175,100 cfs; (3) a reservoir with a surface area of 3,260 acres at an elevation of 613.0 feet NGVD; (4) a powerhouse containing two generating units, with a total capacity of 50 MW, a total hydraulic capacity of 9,000 cfs, and an average annual generation of 59,376 MWh; (5) a 50,000 KVA substation and a double-circuit 138-kV tie-in line to AEP's interconnected system; and (6) appurtenant facilities.

The Smith Mountain development operates as a peaking/load-following facility, with generation occurring during peak demand periods and pump-back operation occurring during off-peak periods. Under normal operations, Smith Mountain Lake uses a 2-foot drawdown, which equates to a 13-foot fluctuation in Leesville Lake. Currently, Leesville is operated by auto-cycling the units, to provide a minimum average daily flow of 650 cfs to the Roanoke River downstream. Additional flow is provided during the spring spawning season for striped bass.

Appalachian Power does not propose to modify existing operations, except as described in its proposed Water Management Plan. Appalachian also proposes to implement numerous environmental enhancement measures that are contained in its proposed resource-specific management plans.

l. Locations of the Application: A copy of the application is available for review at the Commission in the Public Reference Room or may be viewed on the Commission's Web site at http://www.ferc.gov, using the “eLibrary” link. Enter the docket number, excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/esubscribenow.htm to be notified via e-mail of new filings and issuances related to this or other pending projects. For assistance, contact FERC Online Support.

n. Procedural Schedule: The application will be processed according to the following Hydro Licensing Schedule. Revisions to the schedule may be made as appropriate. For example, issuance of the Ready for Environmental Analysis Notice is based on the assumption that there will be no additional information.

Milestone | Target Date
Tendering Notice | (April 2008).
Notice of Acceptance/Notice of Ready for Environmental Analysis | (May 2008).
Filing of recommendations, preliminary terms and conditions, and fishway prescriptions | (July 2008).
Commission issues Draft EA or EIS | (January 2009).
Comments on Draft EA or EIS | (March 2009).
Modified Terms and Conditions | (May 2009).
Commission Issues Final EA or EIS | (August 2009).

o. Final amendments to the application must be filed with the Commission no later than 30 days from the issuance date of the notice of ready for environmental analysis.

Kimberly D. Bose,
Secretary.

[FR Doc. E8-7955 Filed 4-14-08; 8:45 am]

BILLING CODE 6717-01-P